NATIONAL SCIENCE FOUNDATION

Proposal Review Panel for Computing and Communication Foundations; Notice of Meeting

In accordance with the Federal Advisory Committee Act (Pub., L. 92-463, as amended), the National Science Foundation announces the following meeting:

Name: Proposal Panel Review for Science and Technology Centers—Integrative Partnerships (#1192) Site Visit.

Date/Time: December 7, 2015, 6:30 p.m.-8:30 p.m.; December 8, 2015, 8:00 a.m.-8:00 p.m.; December 9, 2015, 8:30 a.m.-3:00 p.m.

Place: Purdue University, West Lafayette, IN 47907.

Type of Meeting: Part-Open.

Contact Person: John Cozzens, National Science Foundation, 4201 Wilson Boulevard, Room 1115, Arlington, VA 22230. Telephone: (703) 292-8910.

Purpose of Meeting: To assess the progress of the STC Award: 0939370 “Emerging Frontiers of Science of Information: the Science and the Technology of Intelligence”, and to provide advise and recommendations concerning further NSF support for the Center.

Agenda: CSol Purdue Site Visit

Monday, December 7, 2015, 6:30 p.m. to 8:30 p.m.: Closed; Site Team and NSF Staff meets to discuss Site Visit materials, review process and charge.

Tuesday, December 8, 2015, 8:00 a.m. to 1:00 p.m.: Open; Presentations by Awardee Institution, faculty staff and students, to Site Team and NSF Staff; Discussions, question and answer sessions.

1:00 p.m.-8:00 p.m.: Closed; Draft report on education and research activities.

Wednesday, December 9, 2015, 8:30 a.m.-noon: Open; Response presentations by Site Team and NSF Staff Awardee Institution faculty staff; Discussions, question and answer sessions.

Noon to 3:00 p.m.: Closed; Complete written site visit report with preliminary recommendations.

Reason for Closing: The proposals being reviewed include information of a proprietary or confidential nature, including technical information; financial data, such as salaries; and personal information concerning individuals associated with the proposals. These matters are exempt under 5 U.S.C. 552b(c), (4) and (6) of the Government in the Sunshine Act.

Dated: November 10, 2015.
Crystal Robinson,
Committee Management Officer.

[FR Doc. 2015-29165 Filed 11-13-15; 8:45 am]

BILLING CODE 7555-01-P